DEPARTMENT OF STATE

[Public Notice: 10262]

Call for Expert Reviewers To Contribute to the U.S. Government Review of the Intergovernmental Panel on Climate Change (IPCC) Special Report on the Impacts of Global Warming of 1.5 °C Above Preindustrial Levels and Related Global Greenhouse Gas Emission Pathways in the Context of Strengthening the Global Response to the Threat of Climate Change, Sustainable Development and Efforts to Eradicate Poverty. (Special Report on Global Warming of 1.5 °C)

The United States Global Change Research Program (USGCRP), in cooperation with the Department of State, requests expert review of the second-order draft of the IPCC Special Report on Global Warming of 1.5 °C, including the first draft of its Summary for Policymakers (SPM).

The United Nations Environment Programme (UNEP) and the World Meteorological Organization (WMO) established the IPCC in 1988. As reflected in its governing documents (the IPCC's “principles and procedures”), the role of the IPCC is to assess on a comprehensive, objective, open, and transparent basis the scientific, technical, and socio-economic information relevant to understanding the scientific basis of risk of human-induced climate change, its potential impacts and options for adaptation and mitigation. IPCC reports should be neutral with respect to policy, although they may need to deal objectively with scientific, technical, and socio-economic factors relevant to the application of particular policies. The principles and procedures for the IPCC and its preparation of reports can be found at: https://www.ipcc.ch/pdf/ipcc-principles/ipcc-principles.pdf and http://ipcc.ch/pdf/ipcc-principles/ipcc-principles-appendix-a-final.pdf. At the 44th Session of the Panel (Bangkok, Thailand, October 17-20, 2016), the IPCC approved the outline for the Special Report on Global Warming of 1.5C. Writing team nominations were submitted by the IPCC deadline of December 11, 2016, and author appointments made on January 23, 2017. The Table of Contents for the Special Report can be viewed here: http://ipcc.ch/meetings/session44/l2_adopted_outline_sr15.pdf. As reflected in the IPCC's principles and procedures, review is an essential part of the IPCC process. Since the IPCC is an intergovernmental body, review of IPCC documents involves both peer review by experts and review by governments. The purpose of these reviews is to ensure that the Reports present a comprehensive, objective, and balanced view of the areas they cover.

All IPCC reports go through two broad reviews: a “first-order draft” reviewed by experts, and a “second-order draft” reviewed by both experts and governments. The IPCC Secretariat has informed the U.S. Department of State that the second-order draft of the Special Report on Global Warming of 1.5 °C is available for Expert and Government Review.

As part of the U.S. Government Review, starting on 8 January 2018, experts wishing to contribute to the U.S. Government review are encouraged to register via the USGCRP Review and Comment System (https://review.globalchange.gov/). Instructions and the report itself will be available for download. The USGCRP coordination office will compile U.S. expert comments and submit to the IPCC, on behalf of the Department of State, by the prescribed deadline. U.S. experts have the opportunity to submit properly formatted comments via the USGCRP Review and Comment System (https://review.globalchange.gov/) from 8 January to 8 February 2018. To be considered for inclusion in the U.S. Government submission, comments must be received by 8 February 2018.

Experts may choose to provide comments directly through the IPCC's Expert Review process, which occurs in parallel with the U.S. Government Review. Registration opened on 15 December 2017, and runs through 18 February 2018: https://www.ipcc.ch/apps/comments/sr15/sod/register.php

The Government and Expert Review of the IPCC Special Report on Global Warming of 1.5 °C ends February 25, 2018.

This notice will be published in the Federal Register.

Holly Kirking-Loomis,
Acting Director, Office of Global Change, Department of State.

[FR Doc. 2018-00291 Filed 1-9-18; 8:45 am]

BILLING CODE 4710-09-P